DEPARTMENT OF COMMERCE

Bureau of Industry and Security

Proposed Information Collection; Comment Request; Statement by Ultimate Consignee and Purchaser

AGENCY: Bureau of Industry and Security, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 12, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Larry Hall, BIS ICB Liaison, (202) 482-4895, Lawrence.Hall@bis.doc.gov.

SUPPLEMENTARY INFORMATION:

I. Abstract

This collection of information is necessary under the Export Administration Regulations (EAR). The EAR states that the Form BIS-711, or a statement on company letterhead, is required for exports to certain countries. These documents provide information on the foreign importer receiving the U.S. technology and how the technology will be utilized. The BIS-711 or letter provides assurances from the importer that the technology will not be misused, transferred or reexported in violation of the EAR. A copy of the statement must be submitted with the license application if the country of ultimate destination is listed in certain country groups of Supplement No. 1 to part 740 of the EAR. The Form BIS-711 or letter puts the importer on notice of the special nature of the goods proposed for export and conveys a commitment against illegal disposition. In order to effectively control commodities, BIS must have sufficient information regarding the end-use and end-user of the U.S. origin commodities to be exported. The information will assist the licensing officer in making the proper decision on whether to approve or reject the application for the license.

II. Method of Collection

Submitted electronically or on paper.

III. Data

OMB Control Number: 0694-0021.

Form Number(s): BIS-711.

Type of Review: Regular submission (extension of a currently approved information collection).

Affected Public: Business or other for-profit organizations.

Estimated Number of Respondents: 286.

Estimated Time Per Response: 16 minutes.

Estimated Total Annual Burden Hours: 76.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 5, 2012.
Gwellnar Banks,
Management Analyst, Office of the Chief Information Officer.

[FR Doc. 2012-290 Filed 1-10-12; 8:45 am]

BILLING CODE 3510-33-P